DEPARTMENT OF ENERGY

Federal Energy Regulatory Commission

[Docket No. EL05-77-000]

Florida Power Corporation, Carolina Power & Light Company; Notice of Institution of Proceeding and Refund Effective Date

May 12, 2005.

On May 5, 2005, the Commission issued an order that instituted a proceeding in Docket No. EL05-77-000, pursuant to section 206 of the Federal Power Act (FPA), 16 U.S.C. § 824e, to determine whether Florida Power Corporation and Carolina Power & Light Company may continue to charge market-based rates. Florida Power Corporation and Carolina Power & Light Company, 111 FERC ¶ 61,154 (2005).

The refund effective date in Docket No. EL05-77-000, established pursuant to section 206(b) of the FPA, will be 60 days from the date of publication of this notice in the Federal Register.

Magalie R. Salas,
Secretary.

[FR Doc. E5-2536 Filed 5-19-05; 8:45 am]

BILLING CODE 6717-01-P